DEPARTMENT OF ENERGY

Federal Energy Regulatory Commission

[Docket No. ER03-610-000]

Allegheny Energy Supply Units 3, 4 & 5, LLC; Notice of Filing

April 22, 2003.

Take notice that on April 14, 2003, Allegheny Energy Supply Units 3, 4 & 5 LLC (Allegheny 3, 4 & 5) tendered for filing with the Federal Energy Regulatory Commission (Commission) a request for leave to withdraw its March 12, 2003, filing of a petition for approval of a proposed market-based rate tariff, form of service agreement and code of conduct filed in the above-referenced proceeding.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: April 30, 2003.

Magalie R. Salas,
Secretary.

[FR Doc. 03-10464 Filed 4-28-03; 8:45 am]

BILLING CODE 6717-01-P